DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of May and June 2003.

In order for an affirmative determination to be made and a certification of eligibility to apply for worker adjustment assistance to be issued, each of the group eligibility requirements of section 222 of the Act must be met.

(1) that a significant number or proportion of the workers in the workers' firm, or an appropriate subdivision thereof, have become totally or partially separated, or are threatened to become totally or partially separated; and

(2) that sales or production, or both, of the firm or sub-division have decreased absolutely, and

(3) that increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

None

In the following case, the investigation revealed that the criteria for eligibility have not been met for the reasons specified.

The investigation revealed that criterion (a)(2)(A)(I.C.) (Increased imports) and (a) (2)(B) (II.B) (No shift in production to a foreign country) have not been met.

TA-W-51,583; Lear Corp., Electrical Systems Div., Traverse City, MI.

TA-W-51,586 & A; Solutia, In., Performance Products Div., Phosphate and Saflex Group, Trenton, MI and Butvar Group, Trenton, MI.

TA-W-51,715; Johnson Hosiery Mills, Inc., Hickory, NC.

TA-W-51,549; Virtual Magic Animation, Inc., North Hollywood, CA.

TA-W-51,226; Haworth, Inc., Holland, MI.

TA-W-51,652; Plastene Supply Co., Plant 1, Div. of Siegel Robert, Inc., Portageville, MO.

TA-W-51,540; General Mills, Inc., Toledo, OH.

TA-W-51,758; Teleflex Automotive, Inc., a Div. of Teleflex, Inc., Van Wert, OH.

TA-W-51,495; Alliance Machine Co., Alliance, OH.

TA-W-51,750; Federated Merchandising Group, a Part of Federated Department Stores, New York, NY.

TA-W-51,685; ABB, Inc., Power Technologies Power System (PTPS), The Dalles, OR.

TA-W-51,655; Timeplex, LLC, a div. of Platinum Equity Holdings, Hackensack, NJ.

TA-W-51,790; Paragon Pattern & Manufacturing Co., Muskegon Heights, MI.

TA-W-51,922; PDC Pharmaceutical Systems LLC, Hartland, WI.

TA-W-51,865; Fishing Vessel (F/V) Puda Vida, Kodiak, AK.

TA-W-51,841; Ascot Enterprises, Inc., Window Fashions, Lincolnton, GA.

TA-W-51,824; Triple L Diary, Oakville, WA.

TA-W-51,816; Daylight Harbor, Inc., Kodiak, AK.

TA-W-51,407; Meadwestvaco, Newark, DE.

TA-W-51,324; Ponderosa Moulding, a subsidiary of Jeld-Wen Moulding and Millwork, Redmond, OR.

TA-W-51,041; Yoshida Recreational Products, LLC, d/b/a Epic Technologies, Portland, OR.

TA-W-51,654; Tubelite, Inc., Reed City, MI.

TA-W-51,585; Masonite International, Lisbon Falls, ME.

The workers firm does not produce an article as required for certification under section 222 of the Trade Act of 1974.

TA-W-51,719; Farmer's Insurance, Information Technology Group, Los Angeles, CA.

TA-W-50,735; Consolidated Freightways Corp. of Delaware, Eau Claire Wisconsin Terminal, Eau Clare, WI.

TA-W-51,784; Richardson Electronics, Ltd, Richmond, IN.

TA-W-51,472; Piping Design Services, Inc., d/b/a PDS Technical Services, Seattle, WA.

TA-W-51,405; Itronix Corp., Spokane, WA.

TA-W-51,681; Sony Ericsson Mobile Communications (USA), Inc., Research Triangle Park, NC.

TA-W-51,737; Swissport USA, San Antonio, TX.

TA-W-51,942; V.C. Textile, In., V.C. Textile of California, Miami, FL.

TA-W-51,936; Weslaco Materials Warehouse, Haggar Clothing. Co., Weslaco, TX.

TA-W-51,873; Alpha Thought/Provider Business Services, Pittsburgh, PA.

TA-W-51,867; Federal Mogul Corp., El Paso, TX.

TA-W-51,832; American Greetings Corp., McCrory, AR.

The investigation revealed that criterion (a)(2)(A) (I.A) (no employment declines) have not been met.

TA-W-51,791; Cobra Patterns and Models, Madison Heights, MI.

TA-W-51,925; Fishing Vessel (F/V) Martle, Blaine, WA.

TA-W-51,450; Stratford Die Casting, Inc., Zinc Die Casting. Div., Winston-Salem, NC.

TA-W-51,944; Fish8ing Vessel (F/V) Dawn, Craig, AK.

TA-W-51,634; State of Alaska Commercial Fisheries Entry Commission Permit #S04T582330, Newhalen, AK.

TA-W-51,597; Fishing Vessel (F/V), Melina, Kodiak, AK.

TA-W-51,739; Fishing Vessel (F/V) Blue Fox, Naknek, AK.

TA-W-51,797; Fishing Vessel (F/V) E.G., Dillingham, AK

The investigation revealed that criteria (a)(2)(A)(I.B) (Sales or production, or both, did not decline) and (II.B) (has shifted production to a county not under the free trade agreement with the U.S) have not been met.

TA-W-51,639; Samuel Strapping Systems, Inc., Winchester, TN.

TA-W-51,747; Fisher Scientific, Indiana, PA.

TA-W-51,951; Fishing Vessel (F/V) ULU, Dillingham, AK.

TA-W-51,455A & C; White Rodgers, a div. of Emerson, Coils Div., Harrison, AR and Air Cleaners Div., Harrison, AR.

The investigation revealed that criteria (a) (2) (A) (I.C) (increased imports) and (a)(2)(B) (II.C) (has shifted production to country not under the free trade agreement with U.S) have not been met.

TA-W-51,811; Jim Michel Logging, Inc., Backer City, OR.

TA-W-51,559; Providence Steel, Inc., Providence, RI.

The investigation revealed that criteria (2) has not been met. The workers firm (or subdivision) is not a supplier or downstream producer to trade-affected companies.

TA-W-51,297; Bulk Handling Systems, Inc., Eugene, OR.

TA-W-51,662; S.D.S. Service, Inc., Danville, KY.

The investigation revealed that criteria (a)(2)(A) (I.C) (increased imports) and (a)(B) (II.B) (No Shift in production to a foreign country) have been met.

TA-W-51,807; ASRC Energy Services, Operations and Maintenance, Inc., formerly Alaska Petroleum Contractors, Anchorage, AK.

Affirmative Determinations for Worker Adjustment Assistance

The following certifications have been issued; the date following the company name and location of each determination references the impact date for all workers of such determination.

The following certifications have been issued. The requirements of (a)(2)(A) (increased imports) of section 222 have been met.

TA-W-51,776; General Tool Company, Cincinnati, OH: May 15, 2002.

TA-W-51,827; North America Rubber Thread Co., Inc., Fall River, MA: May 16, 2002.

TA-W-51,857; Solectron Corp., Westboro, MA: May 22, 2002.

TA-W-51,376; Ravenna Machine Co of Defiance, Defiance, OH: March 31, 2002.

TA-W-51,190; Zurn Industries, Inc., Cast Metals Operation (CMO), and Specification Drainage Operation (SDO), Erie, PA: March 13, 2002.

TA-W-51,700; The Boeing Co., Commercial Airplanes Group, Fabrication Div., Salt Lake City, UT: May 5, 2002.

TA-W-51,763; Kismet Products, Inc., Perry, Ohio Div., including leased workers of Horizon Personnel Resources, Perry, OH: May 6, 2002.

TA-W-51,671; Hebron Apparel, Inc., Cades, SC: April 23, 2002.

TA-W-51,761; ADC Telecommunications, Tustin, CA: May 6, 2002.

TA-W-51,494; Citation Corp., Interstate Drop Forge, Milwaukee, WI: April 11, 2002.

TA-W-51,600; Wheatland Tube Co., Wheatland, PA: April 22, 2002.

TA-W-51,812; Tecumseh Products Co., Diecast Operation, Sheboygan Falls, WI: May 16, 2002.

TA-W-51,470 & A; Harriet and Henderson Yarns, Inc., Clarkton Plant, Clarkton, NC and Harriet #1 Plant, Henderson, NC: April 9, 2002.

TA-W-51,920; O'Sullivan Industries Holdings, Inc., Lamar, MO: May 29, 2002.

TA-W-51,879; Monarch Ware, Inc., Algoma, WI: May 27, 2002.

TA-W-51,789; Allen Pattern of Michigan, Inc., Battle Creek, MI: May 1, 2002.

TA-W-51,788; ASF-Keystone, Inc., Alliance, OH: May 1, 2002.

TA-W-51,664; Parker Keeper, a div. of Parker Seal, formerly known as Wynn's Keeper, Inc., Springfield, KY: April 8, 2002.

TA-W-51,614; Nevamar Co., LLC, Hampton, SC: April 25, 2002.

TA-W-51,604; Nortel Networks, Order Management Team, Bohemia, NY: April 25, 2002.

TA-W-51,475; Guy Bennett Lumber Co., Clarkston, WA: April 4, 2002.

TA-W-51,418; Dover Furniture Manufacturing, Inc., Arley, AL: March 28, 2002.

TA-W-51,544; Paramount Apparel International, Inc., Winona Manufacturing, Winona, MO: April 15, 2002.

TA-W-51,506; Phillips Plastics Corp., Custom Div. and leased workers of Manpower, Phillips, WI: April 9, 2002.

TA-W-51,658; Ellis Hosiery Mills, Inc., Plant #2, Hickory, NC: April 30, 2002.

TA-W-51,899; Style Setter Fashions, Inc., Philadelphia, PA: May 28, 2002.

The following certifications have been issued. The requirements of (a)(2)(B) (shift in production) of section 222 have been met.

TA-W-51,842; Caterpillar, Inc., Leland Transmission Facility, Leland, NC: May 12, 2002.

TA-W-51,775; Intesys Technologies, Inc., including leased workers of Kelly Services and Adecco, Gilbert, AZ: May 12, 2002.

TA-W-51,819; Neuville Industries, Inc., Hildebran Div., Hildebran, NC: May 12, 2002.

TA-W-51,202; Spectrum Control, Inc., Wesson, MS: March 3, 2002.

TA-W-51,778; C & D Apparel, Tellico Plains, TN: May 9, 2002.

TA-W-51,684; Arimon Technologies, Inc., Manitowoc, WI: May 2, 2002.

TA-W-51,649; PUR, Water Filter Purification Div., Minneapolis, MN: April 28, 2002.

TA-W-51,862; Fishing Vessel (F/V) Sharon W., Kodiak, AK: May 27, 2002.

TA-W-51,809; J.C. Viramontes, Inc., d/b/a International Garment Processors, El Paso, TX: June 30, 2003.

TA-W-51,888; Mid-South Footwear, Inc., Manila, AR: May 27, 2002.

TA-W-51,926; State of Alaska Commercial Fisheries Entry Commission Permit #S04T64868G, Manokotak, AK: May 20, 2002.

TA-W-51,903; Nistem Corp., San Diego, CA: May 16, 2002.

TA-W-51,895; TRW Automotive, Occupant Safety Systems Div., Sparks, NV: May 29, 2002.

TA-W-51,891; O'Sullivan Industries-Virginia, Inc., South Boston, VA: May 29, 2002.

TA-W-51,886; GE Industrial Systems, Motors & Controls, Induction Motors, Tell City, IN: May 27, 2002.

TA-W-51,711; Fishing Vessel (F/V) Shelly J, Sitka, AK: May 1, 2002.

TA-W-51,623; Harman Wisconsin, Inc., a/k/a Harman Becker Automotive Systems, Inc., a div. of Harman International Industries, Prairie Du Chien, WI: April 25, 2002.

TA-W-51,327; Akzo Nobel, Industrial Coatings Div., Somerset, NJ: March 25, 2002.

TA-W-51,837; Big Idea Productions, Inc., Animation Studio Div., Lombard, IL: May 15, 2002.

TA-W-51,484; CPI Business Group, Inc., Single Use Camera Department, Rochester, NY: March 31, 2002.

TA-W-51,640; Gupta Permold Corp., Mass Transit Div., Pittsburgh, PA: April 24, 2002.

TA-W-51,568; Wellington Leisure Products, Washington Home Seasonal Div., Washington, GA: April 22, 2002.

TA-W-51,455, B, D; White Rodgers, a div. of Emerson Plastic Injection Molding Div., Harrison, AR, Solenoids Div., Harrison, AR and Gas Valves Div., Harrison, AR: April 7, 2002.

The following certification has been issued. The requirement of upstream supplier to a trade certified primary firm has been met.

TA-W-51,817; Farside Fish Camp, Kodiak, AK: May 15, 2002.

TA-W-51,915; Foremost Fisheries, Inc., Fishing Vessel (F/V) Foremost, Sitka, AK: May 30, 2002.

TA-W-51,765; State of Alaska Commercial Fisheries Entry Commission Permit #S04T60784, Ekuk Beach, AK: May 5, 2002.

I hereby certify that the aforementioned determinations were issued during the months of May and June 2003. Copies of these determinations are available for inspection in Room C-5311, U.S. Department of Labor, 200 Constitution Avenue, NW., Washington, DC 20210 during normal business hours or will be mailed to persons who write to the above address.

Dated: June 13, 2003.
Timothy Sullivan
Director, Division of Trade Adjustment Assistance.

[FR Doc. 03-15462 Filed 6-18-03; 8:45 am]

BILLING CODE 4510-30-P